NUCLEAR REGULATORY COMMISSION

[NRC-2009-0455]

Notice of Opportunity for Public Comment on the Proposed Models for Plant-Specific Adoption of Technical Specification Task Force Traveler-508, Revision 1, “Revise Control Room Habitability Actions To Address Lessons Learned From TSTF-448 Implementation”

AGENCY: Nuclear Regulatory Commission.

ACTION: Notice of opportunity for public comment.

SUMMARY: The NRC is requesting public comment on the enclosed proposed model safety evaluation, model no significant hazards consideration determination, and model application for plant-specific adoption of Technical Specification Task Force (TSTF) Traveler-508, Revision 1, “Revise Control Room Habitability Actions to Address Lessons Learned from TSTF-448 Implementation.” The TSTF Traveler-508, Revision 1, is available in the Agencywide Documents Access Management System (ADAMS) under Accession Number ML091690643. The proposed changes would revise Technical Specification (TS) [3.7.10, “Control Room Emergency Filtration System]” the Bases for TS [3.7.10], and TS [5.5.18], “Control Room Envelope Habitability Program,” to pursue TS improvements consistent with the justification in TSTF-448, Revision 3, “Control Room Habitability,” while addressing inconsistencies with TSTF Traveler-448. This model safety evaluation will facilitate expedited approval of plant-specific adoption of TSTF Traveler-508, Revision 1.

DATES: Comment period expires November 16, 2009. Comments received after this date will be considered, if it is practical to do so, but the Commission is able to ensure consideration only for comments received on or before this date.

ADDRESSES: You may submit comments by any one of the following methods. Please include Docket ID NRC-2009-0455 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0455. Address questions about NRC dockets to Carol Gallagher, 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Proposed Model Safety Evaluation for Plant-Specific Adoption of TSTF Traveler-508, Revision 1, is available electronically under ADAMS Accession Number ML092570577.

Federal Rulemaking Web site: Public comments and supporting materials related to this notice can be found at http://www.regulations.gov by searching on Docket ID: NRC-2009-0455.

FOR FURTHER INFORMATION CONTACT: Ms. Michelle C. Honcharik, Senior Project Manager, Special Projects Branch, Mail Stop: O-12D1, Division of Policy and Rulemaking, Office of Nuclear Reactor Regulation, U.S. Nuclear Regulatory Commission, Washington, DC 20555-0001; telephone 301-415-1774 or e-mail at michelle.honcharik@nrc.gov. For technical questions please contact Mr. Matthew Hamm, Reactor Systems Engineer, Technical Specifications Branch, Division of Inspection and Regional Support, Office of Nuclear Reactor Regulation, U.S. Nuclear Regulatory Commission, Washington, DC 20555-0001; telephone 301-415-1472 or e-mail at matthew.hamm@nrc.gov.

SUPPLEMENTARY INFORMATION:

Background

This notice provides an opportunity for the public to comment on proposed changes to the Standard TS (STS) after a preliminary assessment and finding by the NRC staff that the agency will likely offer the changes for adoption by licensees. This notice solicits comment on a proposed change to the STS that modifies the TS. The NRC staff will evaluate any comments received for the proposed change to the STS and reconsider the change or announce the availability of the change for adoption by licensees. Licensees opting to apply for this TS change are responsible for reviewing the NRC staff's evaluation, referencing the applicable technical justifications, and providing any necessary plant-specific information. The NRC will process and note each amendment application responding to the notice of availability according to applicable NRC rules and procedures.

Applicability

TSTF Traveler-508, Revision 1, is applicable to pressurized and boiling water reactors. The Traveler revises the TS and TS Bases for TS [3.7.10] Condition B, TS [3.7.10] Condition [E], and TS [5.5.18], “Control Room Habitability Program.”

The proposed change does not prevent licensees from requesting an alternate approach or proposing changes other than those proposed in TSTF Traveler-508, Revision 1. However, significant deviations from the approach recommended in this notice or the inclusion of additional changes to the license require additional NRC staff review. This may increase the time and resources needed for the review or result in NRC staff rejection of the LAR. Licensees desiring significant deviations or additional changes should instead submit an LAR that does not claim to adopt TSTF Traveler-508, Revision 1.

Dated at Rockville, Maryland, this 1st day of October 2009.
For the Nuclear Regulatory Commission.
Stacey L. Rosenberg,
Chief, Special Projects Branch, Division of Policy and Rulemaking, Office of Nuclear Reactor Regulation.

The following example of an application was prepared by the NRC staff to facilitate the adoption of technical specifications task force (TSTF) Traveler-508, Revision 1, ``Revise control room habitability actions to address lessons learned from TSTF-448 implementation.'' The model provides the expected level of detail and content for an application to adopt Traveler-508, Revision 1. Licensees remain responsible for ensuring that their actual application fulfills their administrative requirements as well as NRC regulations.

U.S. Nuclear Regulatory Commission, Document Control Desk, Washington, DC 20555.

Subject: PLANT NAME

DOCKET NO. 50-[xxx]

APPLICATION FOR TECHNICAL SPECIFICATION IMPROVEMENT TO ADOPT TSTF TRAVELER-508, REVISION 1, “REVISE CONTROL ROOM HABITABILITY ACTIONS TO ADDRESS LESSONS LEARNED FROM TSTF-448 IMPLEMENTATION.

Dear Sir or Madam:

In accordance with the provisions of Section 50.90 of Title 10 of the Code of Federal Regulations (10 CFR), [LICENSEE] is submitting a request for an amendment to the Technical Specifications (TS) for [PLANT NAME, UNIT NOS.]. The proposed changes would address inconsistencies in [PLANT NAME] TS due to the adoption of TSTF Traveler-448, Revision 3, TS changes. The changes are consistent with NRC-approved Industry Technical Specification Task Force (TSTF) Standard Technical Specification Change Traveler-508 Revision 1. The availability of this TS improvement was announced in the Federal Register on [DATE] ([ ] FR [ ]) as part of the consolidated line item improvement process (CLIIP).

Attachment 1 provides a description of the proposed change. Attachment 2 provides the existing TS pages marked to show the proposed change. Attachment 3 provides the existing TS Bases pages marked up to show the proposed change. Attachment 4 provides the proposed TS changes in final typed format. Attachment 5 provides the proposed TS Bases changes in final typed format.

[LICENSEE] requests approval of the proposed license amendment by [DATE], with the amendment being implemented [BY DATE OR WITHIN X DAYS].

In accordance with 10 CFR 50.91, “Notice for Public Comment; State Consultation,” a copy of this application, with attachments, is being provided to the designated [STATE] Official.

I declare [or certify, verify, state] under penalty of perjury that the foregoing is true and correct.

Executed on [Date] [Signature]

If you should have any questions about this submittal, please contact [NAME, TELEPHONE NUMBER].

Sincerely,

[Name, Title]

Attachments: 1. Evaluation of Proposed Change

2. Proposed Technical Specification Changes (Mark-Up)

3. Proposed Technical Specification Bases Changes (Mark-Up)

4. Proposed Technical Specification Change (Re-Typed)

5. Proposed Technical Specification Bases Changes (Re-Typed)

cc: [NRR Project Manager]

[Regional Office]

[Resident Inspector]

[State Contact]

Robert Elliot, NRR/DIRS/ITSB Branch Chief.

Attachment 1—Evaluation of Proposed Change

1.0 Description

This letter is a request to amend Operating License(s) [LICENSE NUMBER(S)] for [PLANT/UNIT NAME(S)]. The proposed changes would revise Technical Specification (TS) [3.7.10, “Control Room Emergency Filtration System]” the Bases for TS [3.7.10], and TS [5.5.18], “Control Room Envelope Habitability Program,” to pursue TS improvements consistent with the justification in Technical Specification Task Force (TSTF) change Traveler-448, Revision 3, “Control Room Habitability,” while addressing inconsistencies with TSTF-448.

TSTF Traveler-508, Revision 1, “Revise Control Room Habitability Actions to Address Lessons Learned from TSTF-448 Implementation,” was announced for availability in the Federal Register on [DATE] as part of the consolidated line item improvement process (CLIIP).

2.0 Proposed Changes

Consistent with NRC-approved TSTF Traveler-508, Revision 1, the following changes are proposed for TS [3.7.10] Condition B:

• Delete the mode restrictions in the Condition statement.

• Add new Required Action B.[2] which requires immediate suspension of movement of [recently] irradiated fuel.

• [add new Required Action B.[3], which requires immediate initiation of actions to suspend OPDRVs.]

• Renumber Required Actions in Condition B.

• Change language in renumbered Required Action B.[4] from, “verify mitigating actions ensure CRE occupant exposures to radiological, chemical, and smoke hazards will not exceed limits.” to “verify mitigating actions ensure CRE occupant radiological exposures will not exceed limits, and CRE occupants are protected from chemical and smoke hazards.”

Consistent with NRC-approved TSTF Traveler-508, Revision 1, the following changes are proposed for TS [3.7.10] Condition [E]:

• Add the phrase “for conditions other than Condition B.” to the end of the first Condition statement.

• Change the second Condition statement to “[Required Actions and associated Completion Times of Condition B not met [in MODE 5 or 6, or] during movement of [recently] irradiated fuel assemblies./Required Actions and associated Completion Times of Condition B not met during movement of [recently] irradiated fuel assemblies in the [secondary/primary or secondary] containment or during OPDRVs.]”

Consistent with NRC-approved TSTF Traveler-508, Revision 1, the following changes are proposed for TS [5.5.18], “Control Room Habitability Program”:

• Revise the last sentence of Paragraph [d] of TS [5.5.18], “Control Room Habitability Program” from “The results shall be trended and used as part of the [18] month assessment of the CRE boundary.” to “The results shall be trended and used as part of the periodic assessment of the CRE boundary.”

This application is being made in accordance with the CLIIP. [LICENSEE] is [not] proposing variations or deviations from the TS changes described in TSTF Traveler-508, Revision 1, or the NRC staff's model safety evaluation published on [DATE] ([ ] FR [ ]) as part of the CLIIP Notice of Availability. [Discuss any differences with TSTF Traveler-508, Revision 1, and the effect of any changes on the NRC staff's model safety evaluation.]

3.0 Background

The background for this application is as stated in the model safety evaluation in NRC's Notice of Availability published on [DATE ] ([ ] FR [ ]) and TSTF Traveler-508, Revision 1.

4.0 Technical Analysis

[LICENSEE] has reviewed TSTF Traveler-508, Revision 1, and the model safety evaluation published on [DATE] ([ ] FR [ ]) as part of the CLIIP Notice of Availability. [LICENSEE] has concluded that the justifications presented in TSTF Traveler-508, Revision 1, and the model safety evaluation prepared by the NRC staff are applicable to [PLANT, UNIT NOS.], and justify this amendment for the incorporation of the changes to the [PLANT] TS.

[LICENSEE] [will] adopt[ed] and implement[ed] changes to the TS for [PLANT, UNIT NOS.] based on TSTF Traveler-448, Revision 3, [on DATE—or—concurrent with adoption and implementation of TS changes based on TSTF Traveler-508, Revision 1].

[Provide discussion and justification for any plant-specific items not addressed in the NRC staff's model safety evaluation.]

5.0 Regulatory Analysis

5.1 No Significant Hazards Determination

[LICENSEE] has reviewed the no significant hazards determination published on [DATE] ([ ] FR [ ]) as part of the CLIIP Notice of Availability. [LICENSEE] and has concluded that the determination presented in the notice is applicable to [PLANT, UNIT NO.]. [LICENSEE] has evaluated the proposed changes to the TS using the criteria in 10 CFR 50.92 and has determined that the proposed changes do not involve a significant hazards consideration. An analysis of the issue of no significant hazards consideration is presented below:

[LICENSEE INSERT ANALYSIS HERE.]

5.2 Applicable Regulatory Requirements/Criteria

A description of this proposed change and its relationship to applicable regulatory requirements and guidance was provided in the NRC Notice of Availability published on [DATE] ([ ] FR [ ]), and TSTF-508, Revision 1. [LICENSEE] has reviewed the NRC staff's model safety evaluation published on [DATE] ([ ] FR[ ]) as part of the CLIIP Notice of Availability and concluded that the regulatory evaluation section is applicable to [PLANT, UNIT NO.]

6.0 Environmental Evaluation

[LICENSEE] has reviewed the environmental consideration included in the model SE published in the Federal Register on [DATE] ([ ] FR [ ]) as part of the CLIIP. [LICENSEE] has concluded that the staff's findings presented therein are applicable to [PLANT] and the determination is hereby incorporated by reference for this application.

The proposed change would change a requirement with respect to installation or use of a facility component located within the restricted area, as defined in 10 CFR part 20, and would change an inspection or surveillance requirement. However, the proposed change does not involve (i) a significant hazards consideration, (ii) a significant change in the types or significant increase in the amounts of any effluent that may be released offsite, or (iii) a significant increase in individual or cumulative occupational radiation exposure. Accordingly, the proposed change meets the eligibility criterion for categorical exclusion set forth in 10 CFR 51.22(c)(9). Therefore, pursuant to 10 CFR 51.22(b), no environmental impact statement or environmental assessment need be prepared in connection with the proposed change.

7.0 References

1. Federal Register Notice, Notice of Availability published on [DATE] ([ ] FR [ ]).

2. TSTF Traveler-508, Revision 1, “Revise Control Room Habitability Actions to Address Lessons Learned from TSTF-448 Implementation.”

[3. Other References]

Proposed Model Safety Evaluation for Plant-Specific Adoption of TSTF Traveler-508, Revision 1, “Revise Control Room Habitability Actions To Address Lessons Learned From TSTF-448 Implementation”

1.0 Introduction

By letter dated [DATE], [LICENSEE] (the licensee) proposed changes to the technical specifications (TS) for [PLANT NAME]. The proposed changes would allow [PLANT NAME] to address inconsistencies in Technical Specification Task Force (TSTF) Improved Standard Technical Specification (STS) Change Traveler-448, Revision 3.

The proposed changes would revise TS [3.7.10] Condition B as follows:

• Delete the mode restrictions in the Condition statement.

• Add new Required Action B.[2] which requires immediate suspension of movement of [recently] irradiated fuel.

• [add new Required Action B.[3], which requires immediate initiation of actions to suspend OPDRVs.]

• Renumber Required Actions in Condition B.

• Change language in renumbered Required Action B.[4] from, “verify mitigating actions ensure CRE occupant exposures to radiological, chemical, and smoke hazards will not exceed limits.” to “verify mitigating actions ensure CRE occupant radiological exposures will not exceed limits, and CRE occupants are protected from chemical and smoke hazards.”

The proposed changes would revise TS [3.7.10] Condition [E] as follows:

• Add the phrase “for conditions other than Condition B.” to the end of the first Condition statement.

• Change the second Condition statement to “[Required Actions and associated Completion Times of Condition B not met [in MODE 5 or 6, or] during movement of [recently] irradiated fuel assemblies./Required Actions and associated Completion Times of Condition B not met during movement of [recently] irradiated fuel assemblies in the [secondary/primary or secondary] containment or during OPDRVs.]”

The proposed changes would revise TS [5.5.18], “Control Room Habitability Program” as follows:

• Revise the last sentence of paragraph [d] of TS [5.5.18], “Control Room Habitability Program” from “The results shall be trended and used as part of the [18] month assessment of the CRE boundary.” to “The results shall be trended and used as part of the periodic assessment of the CRE boundary.”

The licensee stated that the application is consistent with NRC-approved Revision 1 to TSTF Traveler-508, Revise Control Room Habitability Actions to Address Lessons Learned from TSTF-448 Implementation.” [Discuss any differences with TSTF-508, Revision 1.] The availability of this TS improvement was announced in the Federal Register on [Date] ([ ] FR [ ]) as part of the consolidated line item improvement process (CLIIP).

2.0 Regulatory Evaluation

Section 182a of the Atomic Energy Act (the “Act”) requires applicants for nuclear power plant operating licenses to include TS as part of the license. The TS ensure the operational capability of structures, systems and components that are required to protect the health and safety of the public. The Commission's regulatory requirements related to the content of the TS are contained in Title 10 of the Code of Federal Regulations (10 CFR) Section 50.36. This regulation requires that the TS include items in the following specific categories: (1) Safety limits, limiting safety systems settings, and limiting control settings (10 CFR 50.36(c).(1)); (2) limiting conditions for operation (10 CFR 50.36(c).(2)); (3) surveillance requirements (10 CFR 50.36(c)(3)); (4) design features (10 CFR 50.36(c)(4)); and (5) administrative controls (10 CFR 50.36(c).(5)).

In general, there are two classes of changes to TS: (1) Changes needed to reflect modifications to the design basis (TS are derived from the design basis), and (2) voluntary changes to take advantage of the evolution in policy and guidance as to the required content and preferred format of TS over time. This amendment deals with the second class of changes.

Licensees may revise the TS to adopt current improved STS format and content provided that plant-specific review supports a finding of continued adequate safety because: (1) The change is editorial, administrative or provides clarification (i.e., no requirements are materially altered); (2) the change is more restrictive than the licensee's current requirement; or (3) the change is less restrictive than the licensee's current requirement, but nonetheless still affords adequate assurance of safety when judged against current regulatory standards. The detailed application of this general framework, and additional specialized guidance, are discussed in Section 3.0 in the context of specific proposed changes.

3.0 Technical Evaluation

The NRC staff has found changes made by TSTF Traveler-508, Revision 1, to the STS, as amended by TSTF Traveler-448, Revision 3, to satisfy applicable regulatory requirements, as described above in Section 2.0. The NRC staff reviewed the licensee's proposed TS changes against the corresponding changes made by TSTF Traveler-508, Revision 1.

3.1 Proposed Changes

The NRC staff compared the proposed TS changes to the STS and the STS markups and evaluations in TSTF Traveler-508. [The NRC staff verified that differences from the STS as amended by TSTF Traveler-448 were adequately justified on the basis of plant-specific design or retention of current licensing basis.] The NRC staff also reviewed the proposed changes to the TS Bases for consistency with the STS Bases and the plant-specific design and licensing bases, although approval of the TS Bases is not a condition for accepting the proposed amendment.

3.2 TS [3.7.10, “Control Room Emergency Ventilation System (CREVS)] Condition B

As stated in Section 1.0, the licensee proposed several changes to Condition B. The first proposed change would delete the phrase “in MODE 1, 2, 3, or 4” from the Condition B statement. This change would mean the licensee would have to complete the Required Actions of Condition B within the associated Completion Times while in all MODES and situations listed in the APPLICABILITY statement. The licensee also proposed adding new Required Action B.2 and a Note as well as renumbering Required Actions B.2 and B.3. New Required Action B.2 requires the licensee to immediately suspend movement of [recently] irradiated fuel assemblies when one or more [CREVS] is inoperable due to an inoperable Control Room Envelope (CRE) boundary. The Note above new Required Action B.[2] states “Not required following completion of Required Action B.[3].” [The licensee also proposed adding new Required Action B.3 and a Note. New Required Action B.3 requires the licensee to immediately initiate action to suspend Operations with the Potential to Drain the Reactor Vessel (OPDRVs) when one or more [CREVS] is inoperable due to an inoperable Control Room Envelope (CRE) boundary. The Note above new Required Action B.3 states “Not required following completion of Required Action B.[4].] Finally, the licensee proposed rewording the renumbered Required Action [3] from “Verify mitigating actions ensure CRE occupant exposures to radiological, chemical, and smoke hazards will not exceed limits” to “Verify mitigating actions ensure CRE occupant radiological exposures will not exceed limits, and CRE occupants are protected from chemical and smoke hazards.”

The NRC staff reviewed the licensee's proposed TS changes. The NRC staff determined that the removal of MODE restrictions and the addition of the [two] new Required Action[s] constituted a relaxation compared to the STS as amended by TSTF Traveler-448. The NRC staff also determined that the STS as amended by TSTF Traveler-448 were overly restrictive in that movement of [irradiated] fuel [and OPDRVs] is [are] not allowed when a CRE is inoperable, even if compensatory measures are taken to confirm CRE occupants will be protected in the event of a Design Basis Accident (DBA). The NRC staff determined that the relaxation is justified and acceptable because the addition of the new Required Action[s] ensure that CRE occupants would continue to be protected from radiological, chemical, and smoke hazards during the time a CRE may be inoperable. The NRC staff also determined that changing the language of Required Action B.[3] was acceptable since quantifiable limits on smoke and chemicals hazards do not exist in the safety evaluation for TSTF Traveler-448, and the proposed change addresses the inconsistency between the STS as amended by TSTF Traveler-448 and the model safety evaluation for TSTF Traveler-448.

3.3 TS [3.7.10, “Control Room Emergency Ventilation System (CREVS)”] Condition [E]

The licensee proposed rewording the two condition statements separated by the OR operator that make up Condition [E] of TS [3.7.10]. The proposed changes are necessary to make the conditions consistent with the removal of the MODE restrictions of Condition B. Condition [E] is currently worded as such: “[Two CREVS trains inoperable [in MODE 5 or 6, or] during movement of [recently] irradiated fuel assemblies [in the secondary containment or during OPDRVs] OR One or more CREVS trains inoperable due to an inoperable CRE boundary [in MODE 5 or 6, or] during movement of [recently] irradiated fuel assemblies [in the secondary containment or during OPDRVs].” The proposed rewording is: “[Two CREVS trains inoperable [in MODE 5 or 6, or] during movement of [recently] irradiated fuel assemblies [in the secondary containment or during OPDRVs] for reasons other than Condition B OR Required Actions and associated Completion Times of Condition B not met [in MODE 5 or 6, or] during movement of [recently ] irradiated fuel assemblies [in the secondary containment or during OPDRVs].”

The NRC staff reviewed the proposed rewording of Condition [E] and determined that the rewording was editorial because it was necessary to maintain consistency with the changes made to Condition B and no requirements or restrictions on operations were altered. Therefore the proposed changes are acceptable.

3.4 S [5.5.18], “Control Room Habitability Program”

The licensee proposed replacing the term “18 month” with the term “periodic” in the last sentence of TS [5.5.18] Paragraph d. The NRC staff determined that the term “18 month” in the last sentence of Paragraph d of TS [5.518] was inconsistent with the licensee's Control Room Habitability Program. The NRC staff determined that the STS, as amended by TSTF Traveler-448 incorrectly used the term “18 month” to describe the assessment referred to in the last sentence of Paragraph d of the Control Room Habitability Program. The NRC staff determined that the proposed change is editorial since no requirements are materially altered and the change will address an inconsistency in TSTF Traveler-448. Therefore the change is acceptable.

4.0 State Consultation

In accordance with the Commission's regulations, the [STATE NAME] State official was notified of the proposed issuance of the amendment. The State official had [(1) no comments or (2) the following comments—with subsequent disposition by the NRC staff].

5.0 Environmental Consideration

The amendment[s] change[s] a requirement with respect to the installation or use of a facility component located within the restricted area as defined in 10 CFR part 20 or surveillance requirements. The NRC staff has determined that the amendment involves no significant increase in the amounts, and no significant change in the types, of any effluents that may be released offsite, and that there is no significant increase in individual or cumulative occupational radiation exposure. The Commission has previously issued a proposed finding that the amendment involves no significant hazards consideration and there has been no public comment on such finding published [DATE] ([ ] FR [ ]). Accordingly, the amendment meets the eligibility criteria for categorical exclusion set forth in 10 CFR 51.22(c)(9). Pursuant to 10 CFR 51.22(b), no environmental impact statement or environmental assessment need be prepared in connection with the issuance of the amendment.

6.0 Conclusion

The NRC staff has concluded, based on the considerations discussed above, that: (1) There is reasonable assurance that the health and safety of the public will not be endangered by operation in the proposed manner; (2) such activities will be conducted in compliance with the Commission's regulations; and (3) the issuance of the amendments will not be inimical to the common defense and security or to the health and safety of the public.

7.0 References

1. License Amendment Request dated [DATE], [Title of Amendment Request], ADAMS Accession No. [MLXXXXXXXXX].

2. Federal Register Notice of Availability for TSTF Traveler-448 Revision 3, “Control Room Habitability,” dated January 17, 2007 (72 FR 2022).

3. Federal Register Notice of Availability for TSTF Traveler-508, Revision 1, “Revise Control Room Habitability Actions to Address Lessons Learned from TSTF-448 Implementation,” dated [DATE] ([ ] FR [ ]).].

Proposed Model No Significant Hazards Consideration Determination for Plant-Specific Adoption of TSTF Traveler-508, Revision 1, “Revise Control Room Habitability Actions To Address Lessons Learned From TSTF-448 Implementation”

Description of Amendment Request: [Plant name] requests adoption of an approved change to the standard technical specifications (STS), as amended by Technical Specification Task Force (TSTF) Standard Technical Specification Change Traveler-448, Revision 3, “Control Room Habitability” and TSTF Traveler-508, Revision 1, “Revise Control Room Habitability Actions to Address Lessons Learned from TSTF-448 Implementation.” TSTF Traveler-508, Revision 1, revised the STS, as previously amended by TSTF Traveler-448, Revision 3, to address inconsistencies with TSTF Traveler-448, Revision 3. The licensee's proposed changes are consistent with NRC-approved TSTF Traveler-508, Revision 1.

Basis for proposed no significant hazards consideration determination: As required by Title10 of the Code of Federal Regulations (10 CFR) Section 50.91(a), the [LICENSEE] analysis of the issue of no significant hazards consideration is presented below:

Criterion 1: Does the Proposed Change Involve a Significant Increase in the Probability or Consequences of an Accident Previously Evaluated?

Response: No.

The proposed changes do not adversely affect accident initiators or precursors nor alter the design assumptions, conditions, or configuration of the facility. The proposed changes do not alter or prevent the ability of structures, systems, and components (SSCs) to perform their intended function to mitigate the consequences of an initiating event within the assumed acceptance limits. This is a revision to the TSs for the control room ventilation system, which is a mitigation system designed to minimize unfiltered air inleakage into the control room envelope (CRE) and to filter the CRE atmosphere to protect the CRE occupants following accidents previously analyzed. An important part of the system is the CRE boundary. Under the proposed change, the movement of irradiated fuel and operations with the potential to drain the reactor vessel may be resumed following confirmation that the CRE occupants will be protected in the event of a DBA. This ensures that the consequences of an accident previously evaluation are not significantly increased. The CRE ventilation system is not an initiator or precursor to any accident previously evaluated. Therefore, the probability of any accident previously evaluated is not increased. The consequences of an accident during the proposed Actions are not significantly increased as the Actions require verification that the CRE occupants are protected by the required mitigating actions.

Therefore, the proposed change does not involve a significant increase in the probability or consequences of an accident previously evaluated.

Criterion 2: Does the Proposed Change Create the Possibility of a New or Different Kind of Accident from any Previously Evaluated?

Response: No.

This revision will not impact the accident analysis. The changes will not alter the requirements of the CRE ventilation system or its function during accident conditions. No new or different accidents result from performing the new surveillance or following the new program. The changes do not involve a physical alteration of the plant (i.e., no new or different type of equipment will be installed) or a significant change in the methods governing normal plant operation. The changes do not alter assumptions made in the safety analysis. The proposed changes are consistent with the safety analysis assumptions and current plant operating practice.

Therefore, the proposed amendment does not create the possibility of a new or different kind of accident from any accident previously evaluated.

Criterion 3: Does the Proposed Change Involve a Significant Reduction in the Margin of Safety?

Response: No.

The proposed changes do not alter the manner in which safety limits, limiting safety system settings or limiting conditions for operation are determined. The safety analysis acceptance criteria are not affected by these changes. The proposed changes will not result in plant operation in a configuration outside the design basis. Compensatory measures are required to be established in order to maintain plant operation in a configuration that is within the design basis. The proposed changes do not adversely affect systems that respond to safely shutdown the plant and to maintain the plant in a safe shutdown condition.

Therefore, the proposed amendment would not involve a significant reduction in a margin of safety.

Based on the NRC staff's review of the licensee's analysis, the NRC staff concludes that the proposed amendment presents no significant hazards consideration under the standards set forth in 10 CFR 50.92(c) and, accordingly, a finding of “no significant hazards consideration” is justified.

[FR Doc. E9-24773 Filed 10-14-09; 8:45 am]

BILLING CODE 7590-01-P